DEPARTMENT OF HEALTH AND HUMAN SERVICES

45 CFR Part 88

RIN 0991-AB46

Office of Global Health Affairs; Regulation on the Organizational Integrity of Entities Implementing Leadership Act Programs and Activities

AGENCY: Department of Health and Human Services.

ACTION: Correction of proposed rule.

SUMMARY: This document corrects a technical error that appeared in the Notice of Proposed Rulemaking (NPRM) on April 17, 2008, entitled “Organizational Integrity of Entities Implementing Leadership Act Programs and Activities.”

FOR FURTHER INFORMATION CONTACT: William R. Steiger, PhD, Office of Global Health Affairs, Hubert H. Humphrey Building, Room 639H, 200 Independence Avenue, SW., Washington, DC 20201.

SUPPLEMENTARY INFORMATION:

I. Background

In FR Doc. 08-1147 of April 17, 2008 (73 FR 20900), there was a technical error that is identified and corrected in the Correction of Errors section below. The provisions in this correction notice are applicable as if they had been included in the document published April 17, 2008. Accordingly, the corrections are applicable May 20, 2008.

We inadvertently omitted the words “has objective integrity and independence” from section 88.3(d)(1), which describes the required certification that recipients must submit. We are also correcting the Executive Order 12866—Regulatory Planning and Review section beginning with the second paragraph to read “the” instead of “this”. We are correcting the errors by republishing the corrected paragraph in this section of the proposed rule.

II. Correction of Errors

In FR Doc. 08-1147 of April 17, 2008 (73 FR 20900), make the following corrections:

On Page 20902, in the last column; second paragraph of the Executive Order 12866—Regulatory Planning and Review section, replace the word “This” with “The”. The corrected paragraph should read:

“The benefits of this rule are to ensure that an appropriate separation exists. * * * ”

On page 20904, in the second column; in the last paragraph, insert “has objective integrity and independence” before “as defined in 45 CFR part 88, from any * * *” The corrected paragraph should read:

(1) Organizational Integrity Certification: “I hereby certify that [name of recipient], a recipient of the funds made available through this [grant, cooperative agreement, contract, or other funding instrument], has objective integrity and independence as defined in 45 CFR part 88, from any affiliated organization that engages in activities inconsistent with a policy opposing prostitution and sex trafficking.”

Dated: May 8, 2008.
Ann C. Agnew,
Executive Secretary to the Department.

[FR Doc. E8-10890 Filed 5-19-08; 8:45 am]

BILLING CODE 4150-38-M